DEPARTMENT OF THE TREASURY

Agency Information Collection Activities; Submission for OMB Review; Comment Request; Multiple Treasury Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 29, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Treasury Departmental Officers (DO)

1. Title: Troubled Asset Relief Program—Making Home Affordable Participants.

OMB Control Number: 1505-0216.

Type of Review: Extension without change of a currently approved collection.

Description: Authorized under the Emergency Economic Stabilization Act (EESA) of 2008 (Public Law 110-343), the Department of the Treasury has implemented several aspects of the Troubled Asset Relief Program. Among these components is a voluntary foreclosure prevention program, Making Home Affordable (MHA) program, under which the Department will use TARP capital to lower the mortgage payments of qualifying borrowers. The Treasury will do this through agreements with mortgage servicers to modify loans on their systems. All servicers were eligible to participate in the program.

Form: None.

Affected Public: Businesses or other for-profits.

Estimated Number of Respondents: 140.

Frequency of Response: Monthly.

Estimated Total Number of Annual Responses: 1,680.

Estimated Time per Response: 187.5 hours for large servicers and 2 hours for small servicers.

Estimated Total Annual Burden Hours: 47,880.

2. Title: Annual Performance Report and Certification for Section 1603: Payments for Specified Renewable Energy Property in Lieu of Tax Credits.

OMB Control Number: 1505-0221.

Type of Review: Extension without change of a currently approved collection.

Description: Authorized under the American Recovery and Reinvestment Act (ARRA), of 2009 (Pub. L. 111-5), the Department of the Treasury is implementing several provisions of the Act, more specifically Division B-Tax, Unemployment, Health, State Fiscal Relief, and Other Provisions. Among these components is a program which requires Treasury, in lieu of a tax credit, to reimburse persons who place in service certain specified energy properties. The collection of information is necessary to properly monitor compliance with program requirements. Applicants for Section 1603 payments commit in the Terms and Conditions that are part of the application to submitting an annual report for five years from the date the energy property is placed in service.

Form: None.

Affected Public: Businesses or other for-profits.

Estimated Number of Respondents: 150,000.

Frequency of Response: Annually.

Estimated Total Number of Annual Responses: 150,000.

Estimated Time per Response: 15 minutes.

Estimated Total Annual Burden Hours: 37,000.

Authority: 44 U.S.C. 3501 et seq.

Dated: December 23, 2019.
Spencer W. Clark,
Treasury PRA Clearance Officer.

[FR Doc. 2019-28143 Filed 12-27-19; 8:45 am]

BILLING CODE 4810-25-P